DEPARTMENT OF TRANSPORTATION

National Highway Traffic Safety Administration

[Docket No. NHTSA 2003-15690; Notice 1]

General Motors North America, Inc., Receipt of Application for Decision of Inconsequential Noncompliance

General Motors North America Inc. (GM), has determined that certain 2001-2003 Oldsmobile Silhouettes and 2003 Pontiac Azteks did not meet requirement S5.2 of Federal Motor Vehicle Safety Standard (FMVSS) 120—“Tire Selection and Rims for Motor Vehicles Other Than Passenger Cars.”

Pursuant to 49 U.S.C. 30118(d) and 30120(h), GM has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

GM produced 55,825 model year 2001-2003 Oldsmobile Silhouettes and 15,343 model year 2003 Pontiac Azteks, totaling 71,168 vehicles. These vehicles are classified as multipurpose vehicles (MPVs). According to GM, the rims fitted to the MPVs were originally released for use on passenger cars, and meet all the requirements of FMVSS 110, “Tire Selection and Rims—Passenger Cars”. FMVSS 110 does not require marking the rims with either the designation of the source of the rims' dimensions or the symbol DOT. When the rims were subsequently released for use on the subject MPVs, they were evaluated for the alternative usage with respect to performance requirements, but they inadvertently were not reviewed with respect to the marking requirements of FMVSS 120. These rims meet all rim requirements of FMVSS 120, except the marking requirements of S5.2(a) and S5.2(c), which require the designation of the source of the rims' dimensions, and use of the symbol DOT, respectively.

GM argues that this noncompliance is inconsequential to motor vehicle safety for the following reason: Apart from S5.2 (a) and S5.2(c), the subject rims meet all requirements of FMVSS 120. The tire and rim of the affected vehicles are properly matched, and are appropriate for the load-carrying characteristics of these vehicles. The missing markings have no effect on safety or the performance of the tire/rim combination.

Also, the rim markings and vehicle placard, which are used to identify the correct replacement rim, both contain the correct and complete size of rims installed on the Silhouette and Aztek MPVs.

Interested persons are invited to submit written views, arguments, and data on the application described above. Comments must refer to the docket and notice number cited at the beginning of this notice and be submitted by any of the following methods: Mail: Docket Management Facility; U.S. Department of Transportation, Nassif Building, Room PL-401, 400 Seventh Street, SW., Washington, DC 20590-001. Hand Delivery: Room PL-401 on the plaza level of the Nassif Building, 400 Seventh Street SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

All comments received before the close of business on the closing date indicated below will be considered. The application and supporting materials, and all comments received after the closing date, will also be filed and considered to the extent possible. When the application is granted or denied, the notice is published in the Federal Register pursuant to the authority indicated below.

Comment closing date: September 15, 2003.

Authority: (49 U.S.C. 301118, 301120; delegations of authority at CFR 1.50 and 501.8).

Issued on: August 7, 2003.
Stephen R. Kratzke,
Associate Administrator for Rulemaking.

[FR Doc. 03-20924 Filed 8-14-03; 8:45 am]

BILLING CODE 4910-59-P